FEDERAL RESERVE SYSTEM

12 CFR Parts 208, 217, and 225 Regulations H, Q, and Y

[Docket No. R-1442]

RIN 7100-AD 87

Regulatory Capital Rules: Regulatory Capital, Implementation of Basel III, Capital Adequacy, Transition Provisions, Prompt Corrective Action, Standardized Approach for Risk-Weighted Assets, Market Discipline and Disclosure Requirements, Advanced Approaches Risk-Based Capital Rule, and Market Risk Capital Rule

AGENCY: Board of Governors of the Federal Reserve System.

ACTION: Correction, final rule.

SUMMARY: The Board of Governors of the Federal Reserve System published in the Federal Register of October 11, 2013, a document adopting a final rule that revises its risk-based and leverage capital requirements for banking organizations. This document adds an acceleration clause under the capital components and eligibility criteria for regulatory capital instruments and corrects an incorrect citation.

DATES: Effective Date: January 1, 2014.

FOR FURTHER INFORMATION CONTACT: Benjamin McDonough, Senior Counsel, (202) 452-2036; or David Alexander, Senior Attorney, (202) 452-2877.

SUPPLEMENTARY INFORMATION: The Board published a document in the Federal Register of October 11, 2013, adopting a final rule that revises its risk-based and leverage capital requirements for banking organizations. An allowance for additional circumstances under which an acceleration clause would be permitted under the capital components and eligibility criteria for regulatory capital instruments was inadvertently omitted from that notice.

In addition, this notice corrects an incorrect citation to the authority for 12 CFR part 208.

In the Final Rule, FR Doc. 2013-21653, published on October 11, 2013 (78 FR 62018), please correct the following:

PART 208—[AMENDED]

1. Revise the authority for 12 CFR part 208 to read as follows:

Authority: 12 U.S.C. 24, 36, 92a, 93a, 248(a), 248(c), 321-338a, 371d, 461, 481-486, 601, 611, 1814, 1816, 1818, 1820(d)(9), 1823(j), 1828(o), 1831, 1831o, 1831p-1, 1831r-1, 1831w, 1831x, 1835a, 1882, 2901-2907, 3105, 3310, 3331-3351, 3905-3909, and 5371; 15 U.S.C. 78b, 78I(b), 78l(i), 780-4(c)(5), 78q, 78q-1, and 78w, 1681s, 1681w, 6801, and 6805; 31 U.S.C. 5318; 42 U.S.C. 4012a, 4104a, 4104b, 4106 and 4128.

2. In § 217.20, under amendatory instruction 49A, revise paragraph (d)(1)(vi) to read as follows:

§ 217.20 Capital components and eligibility criteria for regulatory capital instruments.

* * * * *

(vi) The holder of the instrument must have no contractual right to accelerate payment of principal or interest on the instrument, except in the event of a receivership, insolvency, liquidation, or similar proceeding of the state member bank or depository institution holding company, as applicable, or of a major subsidiary depository institution of the depository institution holding company.

* * * * *

By order of the Board of Governors of the Federal Reserve System, December 11, 2013.
Robert deV. Frierson,
Secretary of the Board.

[FR Doc. 2013-29883 Filed 12-19-13; 8:45 am]

BILLING CODE 6210-01-P